DEPARTMENT OF HEALTH AND HUMAN SERVICES

Administration for Children and Families

Submission for OMB Review; Administration for Native Americans Project Outcome Assessment Survey (OMB #0970-0379)

AGENCY: Administration for Native Americans, Administration for Children and Families, HHS.

ACTION: Request for public comment.

SUMMARY: The Administration for Children and Families (ACF) is requesting a 3-year extension of the form Administration for Native Americans (ANA) Project Outcome Assessment Survey (OMB #0970-0379, expiration 6/30/2022). There are minor changes and updates requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The information collected by the Project Impact Assessment Survey is needed for two main reasons: (1) To collect crucial information required to report on the ANA established Government Performance and Results Act measures, and (2) to properly abide by ANA's congressionally mandated statute (42 U.S.C. 2992 et seq.) found within the Native American Programs Act of 1974, as amended, which states that ANA will evaluate projects assisted through ANA grant dollars “including evaluations that describe and measure the impact of such projects, their effectiveness in achieving stated goals, their impact on related programs, and their structure and mechanisms for delivery of services.” The information collected with this survey will fulfill ANA's statutory requirement and will also serve as an important planning and performance tool for ANA.

Updates to this information collection address the Indian Community Economic Enhancement Act of 2020 (Pub. L. 116-261). It also addresses the flexibilities and assistance offered under COVID-19 recovery assistance.

Respondents: Tribal Governments, Native American nonprofit organizations, and Tribal Colleges and Universities.

Burden Estimates
Instrument | Number of respondents | Number of responses per respondent | Average burden hours per response | Total burden hours
ANA Project Outcome Assessment Survey | 85 | 1 | 6 | 510

Estimated Total Burden Hours: 510.

Authority: 42 U.S.C. 2992.

Mary B. Jones,
ACF/OPRE Certifying Officer.

[FR Doc. 2022-06652 Filed 3-29-22; 8:45 am]

BILLING CODE 4184-34-P